DEPARTMENT OF THE INTERIOR

National Park Service

[NPS-WASO-NAGPRA-NPS0031999; PPWOCRADN0-PCU00RP14.R50000]

Notice of Inventory Completion: San Juan County Museum Association DBA Salmon Ruins Museum, Bloomfield, NM

AGENCY: National Park Service, Interior.

ACTION: Notice.

SUMMARY: The San Juan County Museum Association (hereafter referred to as Salmon Ruins Museum) has completed an inventory of human remains and associated funerary objects, in consultation with the appropriate Indian Tribes or Native Hawaiian organizations, and has determined that there is a cultural affiliation between the human remains and associated funerary objects and present-day Indian Tribes or Native Hawaiian organizations. Representatives of any Indian Tribe or Native Hawaiian organization not identified in this notice that wish to request transfer of control of these human remains and associated funerary objects should submit a written request to Salmon Ruins Museum. If no additional requestors come forward, transfer of control of the human remains and associated funerary objects to the Indian Tribes, or Native Hawaiian organizations stated in this notice may proceed.

DATES: Lineal descendants or representatives of any Indian Tribe or Native Hawaiian organization not identified in this notice that wish to request transfer of control of these human remains and associated funerary objects should submit a written request with information in support of the request to Salmon Ruins Museum at the address in this notice by June 25, 2021.

ADDRESSES: Larry L. Baker, Executive Director, Salmon Ruins Museum, 6131 US Highway 64, P.O. Box 125, Bloomfield, NM 87413, telephone (505) 632-2013, email sreducation@sisna.com.

SUPPLEMENTARY INFORMATION: Notice is here given in accordance with the Native American Graves Protection and Repatriation Act (NAGPRA), 25 U.S.C. 3003, of the completion of an inventory of human remains and associated funerary objects under the control of the Salmon Ruins Museum, Bloomfield, NM. The human remains and associated funerary objects were removed from an unknown location most likely in San Juan County, NM.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Salmon Ruins Museum professional staff in consultation with the Hopi Tribe of Arizona; Navajo Nation, Arizona, New Mexico, & Utah; Pueblo of Acoma, New Mexico; Pueblo of Pojoaque, New Mexico; Pueblo of Santa Clara, New Mexico; Pueblo of San Felipe, New Mexico; Pueblo of Zia, New Mexico; and the Zuni Tribe of the Zuni Reservation, New Mexico. The Jicarilla Apache Nation, New Mexico; Pueblo of Cochiti, New Mexico; Pueblo of Isleta, New Mexico; Pueblo of Jemez, New Mexico; Pueblo of Laguna, New Mexico; Pueblo of Nambe, New Mexico; Pueblo of Picuris, New Mexico; Pueblo of San Ildefonso, New Mexico; Pueblo of Sandia, New Mexico; Pueblo of Santa Ana, New Mexico; Pueblo of Taos, New Mexico; Pueblo of Tesuque, New Mexico; Southern Ute Indian Tribe of the Southern Ute Reservation, Colorado; Ute Mountain Ute Tribe [previously listed as Ute Mountain Tribe of the Ute Mountain Reservation, Colorado, New Mexico, & Utah]; and the Ysleta del Sur Pueblo [previously listed as Ysleta Del Sur Pueblo of Texas] were invited to consult but did not participate. Hereafter, the above listed Indian Tribes are referred to as “The Consulted and Invited Tribes.”

History and Description of the Remains

Sometime prior to 1996, human remains representing, at minimum, one individual were removed from an unknown location most likely in San Juan County, NM. In 1996, the human remains were donated anonymously to Salmon Ruins Museum. The human remains belong to an adult female. No known individual was identified. The 62 associated funerary objects are pieces of pottery from a single Navajo Dinetah Gray ceramic vessel.

Determinations Made by the Salmon Ruins Museum

Officials of the Salmon Ruins Museum have determined that:

• Pursuant to 25 U.S.C. 3001(9), the human remains described in this notice represent the physical remains of one individual of Native American ancestry.

• Pursuant to 25 U.S.C. 3001(3)(A), the 62 objects described in this notice are reasonably believed to have been placed with or near individual human remains at the time of death or later as part of the death rite or ceremony.

• Pursuant to 25 U.S.C. 3001(2), there is a relationship of shared group identity that can be reasonably traced between the Native American human and associated funerary objects and the Navajo Nation, Arizona, New Mexico, & Utah.

Additional Requestors and Disposition

Representatives of any Indian Tribe or Native Hawaiian organization not identified in this notice that wish to request transfer of control of these human remains and associated funerary objects should submit a written request with information in support of the request to Larry L, Baker, Executive Director, Salmon Ruins Museum, 6131 US Highway 64, P.O. Box 125, Bloomfield, NM 87413, telephone (505) 632-2013, email sreducation@sisna.com, by June 25, 2021. After that date, if no additional requestors have come forward, transfer of control of the human remains and associated funerary objects to the Navajo Nation, Arizona, New Mexico, & Utah may proceed.

The Salmon Ruins Museum is responsible for notifying The Consulted and Invited Tribes that this notice has been published.

Dated: May 17, 2021.
Melanie O'Brien,
Manager, National NAGPRA Program.

[FR Doc. 2021-11122 Filed 5-25-21; 8:45 am]

BILLING CODE 4312-52-P